DEPARTMENT OF STATE

[Public Notice 6964]

Bureau of Educational and Cultural Affairs (ECA) Request for Grant Proposals: 2010 Community Solutions Program

Announcement Type: New Cooperative Agreement.

Funding Opportunity Number: ECA/PE/C/EUR-SCA-10-60.

Catalog of Federal Domestic Assistance Number: 19.415.

Key Dates:

Application Deadline: June 3, 2010.

Executive Summary: The Office of Citizen Exchanges of the Bureau of Educational and Cultural Affairs invites proposal submissions for the Community Solutions Program in Africa, East Asia and the Pacific, Europe, the Middle East and North Africa, South and Central Asia and the Western Hemisphere. Public and private non-profit organizations meeting the provisions described in Internal Revenue Code section 26 U.S.C. 501(c)(3) may submit proposals to conduct this professional fellowship program. The Community Solutions Program serves as a mechanism to support and encourage initiatives organized by young civic and community leaders, ages 25-38, currently working to address the economic, environmental, political, and social challenges confronting their respective local communities. Through professional fellowships with a specific leadership component, Community Solutions will provide opportunities for eligible individuals to more effectively address issues of concern in their own towns, cities and regions.

I. Funding Opportunity Description

I.1. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose and Program Description

In an increasingly connected world, local economic, environmental, political, and social challenges are intimately linked to their counterparts on a global scale. So too, are each community's solutions and approaches to these problems. Making progress on today's complex global challenges on a local scale requires multi-dimensional public engagement strategies to forge partnerships, mobilize broad coalitions, and galvanize public opinion across all sectors of society.

The Community Solutions Program seeks to enhance the skills of approximately 65-80 civic and community leaders to more effectively address current economic, environmental, political, and social challenges in their communities through increased civic engagement and dialogue, leadership development, and an enhanced understanding of the way public and private resources interface for the common good. Through a four- to six-month fellowship, complemented by leadership development, Community Solutions will provide opportunities for eligible individuals to experience best practices, learn about effective models of public and community engagement, and develop concrete strategies to better address complex issues in their home communities.

ECA anticipates funding one project for approximately $1,500,000 to take place over the course of one to two years and target young professionals currently engaged in initiatives that aim to improve and enhance the economic, environmental, political, and social well-being of their communities.

As a global tool to address community-based challenges, the Community Solutions Program seeks to:

(1) Enhance the participants' ability to address complex local economic, environmental, political, and social challenges through a U.S.-based fellowship;

(2) Provide concrete tools to the participants to take on greater leadership roles in their communities, by developing their skills for effective public discourse, professional collaboration, and project management;

(3) Cultivate professional ties with U.S. economic, environmental, political, and social institutions through collaborative and follow-on projects;

(4) Create a global network of diverse, multi-disciplinary, engaged professionals and civic leaders committed to problem solving and community engagement; and

(5) Expand and strengthen the relationship between the people of the United States and other countries to work in partnership to identify solutions to common issues facing their local communities.

The specific themes for the professional fellowships for this program are: (1) Accountability and Transparency, (2) Tolerance/Conflict Resolution, (3) Environmental Issues, and (4) Women's Issues.

Eligible countries and guidance for each theme are provided in Section I.8 below. Proposals that target professional fellowships that are unrelated to the themes referenced in this Request for Grant Proposals will be considered ineligible.

I.3. Participants

For the purposes of this program, “participants” are defined as citizens of the eligible countries selected through a merit-based, global competition to travel to the United States to take part in a Community Solutions fellowship. Participants must be early to mid-career professionals with demonstrated leadership abilities, who are engaged in a community-based project with the express goal of addressing an economic, environmental, political, and/or social challenge confronting that community (either in or outside of their professional capacity). Participants must possess the intercultural and English language skills necessary to benefit fully from the fellowship. Therefore, strong preference will be given to individuals who have previously studied in the United States for a period of four months or longer, in order to build upon an already established understanding of U.S. society, culture, politics, and public institutions.

Fellows should be placed in community-based, non-profit or other civil society organizations, government offices, or legislative bodies (Federal or State, county or municipal). Hosting institutions and organizations should have expertise relevant to the fellowship's focus and be working on innovative community engagement projects in the non-profit or governmental spheres, including State legislatures, city councils or local government that express a willingness to collaborate on a specific project of mutual interest. Preference should be given to hosting sites that have identified potential collaborative projects or initiatives of interest to Community Solutions participants. In order to enhance the possibility that these collaborative initiatives continue after the conclusion of the fellowship, proposals should include follow-on projects that utilize existing Web or social technologies such as Twitter, blogs, SMS messaging systems, etc.

Through their respective fellowships, Community Solutions Fellows will work with seasoned civic leaders on pre-defined issues of mutual interest. Fellowship sites should provide real life models for the Fellows to apply leadership lessons, explore creative approaches to global challenges, and develop concrete strategies to apply within their local communities. Linking Community Solutions Fellows, program hosts and mentors together, the Community Solutions program will work to create a worldwide network of engaged professionals and civic leaders.

Applicants should strive to maximize the number of participants and the length of the U.S.-based program at the given funding levels. Therefore, applicants who engage public and private partners for programming support, and employ other creative techniques to increase or stretch funding dollars will be deemed more competitive than those that do not, under the Cost Effectiveness and Cost-Sharing review criterion.

I.4. Partner Organizations

Applicants must identify the U.S.-based and any foreign-based organizations and individuals with whom they are proposing to collaborate to implement Community Solutions, and describe any previous cooperative activities. While having a presence in each eligible country is not required, applicants that are able to demonstrate institutional capacity in regions overseas (whether through their own resources or through partnerships with other organizations or institutions) will be given strong consideration. In addition, proposals must demonstrate capacity in the United States to secure effective and appropriate host placements for the participants. Proposals that include letters of commitment from possible U.S-based host organizations will be deemed more competitive.

I.5. Project Activities

Projects should include placement of participants in carefully identified four- to six-month fellowships in non-profit organizations and other public and civil society organizations where they will work with seasoned community leaders on current complex global challenges related to the participants' community activities. Strong project designs will ground and augment the fellowship experience with leadership development activities that relate to civic engagement.

I.6. Program Guidelines

In a cooperative agreement, ECA is substantially involved in program activities above and beyond routine grant monitoring. While the recipient organization is responsible for the conception and structure of the program, ECA anticipates working in tandem to ensure that all aspects of the program design support the Community Solutions program goals through innovative activities.

I.7. Projected Timeline

ECA envisions the approximate dates of the Community Solutions program to be as follows:

• September 2010-January 2011: Recruitment and selection of foreign participants. Recruitment campaign for U.S. hosting institutions.

• February 2011-May 2011: Securing U.S.-based hosts and host sites.

• August 2011: Travel to the United States by all the foreign participants for orientation and placement at community Fellowship sites for a four- to six-month program.

• August 2011-December 2011: Fellowship.

• December 2011: Travel to Washington, DC, for a two-day end of program workshop.

• January 2012-July 2012: Conduct any follow-on collaborative projects.

I.8. Professional Fellowship Themes

Themes and Eligible Partner Countries: Proposals need to embrace a global program design that incorporates all of the proposed themes under Community Solutions. Program participants should be from all of the regions listed below. Proposals that target countries or themes not listed in this solicitation will be deemed technically ineligible. No guarantee is made or implied that every theme will have participants.

1. Transparency and Accountability: Fellowships should provide exposure to institutions and concepts related to civil society, grass-roots democracy, good governance, anti-corruption, transparency, accountability, and/or free and fair elections. The important role of volunteerism and the culture of volunteerism can also be addressed, when appropriate.

Geographic Regions and Eligible Countries

• Africa: Zimbabwe, Uganda, Rwanda, Liberia, Zambia, Sierra Leone.

• East Asia and the Pacific: Mongolia, Cambodia, Thailand, Laos, Singapore, Philippines, and Malaysia.

• Europe: Bulgaria, Romania, Hungary, Slovakia and the Czech Republic.

• South and Central Asia: Kazakhstan, Kyrgyzstan, Tajikistan, Turkmenistan, and Uzbekistan.

2. Tolerance/Conflict Resolution: Fellowships should expose participants to issues and strategies that address tolerance, multi-culturalism, discrimination, and conflict resolution. Negotiation skills, the art of compromise, fair treatment of minority populations, and civil rights and responsibilities can also be addressed. Based on participants' specific interests, fellowships may need to be identified that deal with conflict resolution and crisis response tools for use in failing, failed, and post-conflict states and complex emergencies/disasters.

Geographic Regions and Eligible Countries

• Africa: Zimbabwe, Uganda, Rwanda, Liberia, Zambia, Sierra Leone.

• South and Central Asia: Nepal, Sri Lanka, Bangladesh.

• Near East & North Africa: Israel, West Bank/Gaza, Lebanon, Egypt, Jordan, Syria.

• Western Hemisphere: El Salvador, Peru, Bolivia, Paraguay, and Trinidad.

3. Environmental Issues: Fellowships for the “Environmental Issues” theme should focus on issues related to water and resource management, food security, supporting the food supply (at local, regional or national levels), social entrepreneurship (to leverage science and technology to address ecological and environmental issues) low-carbon technologies, and the use of natural resources, pollution, sustainable energy, and climate change.

Geographic Regions and Eligible Countries

• South and Central Asia: Nepal, Sri Lanka, Bangladesh, Kazakhstan, Kyrgyzstan, Tajikistan, Turkmenistan, and Uzbekistan.

• Near East & North Africa: Israel, West Bank/Gaza, Lebanon, Egypt, Jordan, Syria.

• Western Hemisphere: El Salvador, Peru, Bolivia, Paraguay, and Trinidad.

4. Women's Issues: Fellowships for the “Women's Issues” theme should focus on issues related to women's empowerment, women's education, women's health, women entrepreneurs, gender equality, and the prevention of all forms of exploitation, including domestic violence. Special emphasis should be placed on identifying Fellowships that will provide exposure to best practices for grassroots organizations working to advance the political, economic, and social empowerment of women.

Geographic Regions and Eligible Countries

• Africa: Zimbabwe, Uganda, Rwanda, Liberia, Zambia, Sierra Leone.

• Near East & North Africa: Israel, West Bank/Gaza, Lebanon, Egypt, Jordan, Syria.

Additional guidelines and programming responsibilities of the recipient organization and ECA are located in the POGI.

II. Award Information

Type of Award: Cooperative Agreement. ECA's level of involvement in this program is listed under number I above.

Fiscal Year Funds: 2010.

Approximate Total Funding: $1,500,000.

Approximate Number of Awards: 1.

Floor of Award Range: $1,500,000.

Ceiling of Award Range: $1,500,000.

Anticipated Award Date: September 1, 2010.

Anticipated Project Completion Date: July 2012.

III. Eligibility Information

III.1. Eligible Applicants

Proposals may be submitted by U.S. public and non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

(a) Bureau grant guidelines require that organizations with less than four years experience in conducting international exchanges be limited to $60,000 in Bureau funding. ECA anticipates making one award, in an amount up to $1,500,000 to support program and administrative costs required to implement this exchange program. Therefore, organizations with less than four years experience in conducting international exchanges are ineligible to apply under this competition. The Bureau encourages applicants to provide maximum levels of cost sharing and funding in support of its programs.

(b) Technical Eligibility: All proposals must comply with the following or they will result in your proposal being declared technically ineligible and given no further consideration in the review process.

• Eligible applicants may not submit more than one proposal under this competition.

• If more than one proposal is received from the same applicant, all submissions will be declared technically ineligible and will receive no further consideration in the review process. Please Note: Applicant organizations are defined by their legal name, and EIN number as stated on their completed SF-424 and additional supporting documentation outlined in the Proposal Submission Instructions (PSI) document.

• Eligible applicants may only propose working with the countries and themes listed in this RFGP.

• Please refer to the Proposal Submission Instruction (PSI) document for additional requirements.

IV. Application and Submission Information

Note: Please read the complete announcement before sending inquiries or submitting proposals. Once the RFGP deadline has passed, Bureau staff may not discuss this competition with applicants until the proposal review process has been completed.

IV.1. Contact Information To Request an Application Package

Please contact David Gustafson in the Office of Citizen Exchanges, ECA/PE/C, U.S. Department of State, SA-5, 3rd Floor, 2200 C St., NW., Washington, DC 20522-0503, ph: (202) 632-6083, GustafsonDP@state.gov to request a Solicitation Package. Please refer to the Funding Opportunity Number: (ECA/PE/C/EUR-SCA-10-60).

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

Please specify Linnéa E. Allison and refer to the Funding Opportunity Number (ECA/PE/C/EUR-SCA-10-60) located at the top of this announcement on all other inquiries and correspondence.

IV.2. To Download a Solicitation Package Via Internet

The entire Solicitation Package may be downloaded from the Bureau's Web site at http://exchanges.state.gov/grants/open2.html, or from the Grants.gov Web site at http://www.grants.gov.

Please read all information before downloading.

IV.3. Content and Form of Submission

Applicants must follow all instructions in the Solicitation Package. The application should be submitted per the instructions under

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have non-profit status with the IRS at the time of application. Please Note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private non-profit which has not received a grant or cooperative agreement from ECA in the past three years, or if your organization received non-profit status from the IRS within the past four years, you must submit the necessary documentation to verify non-profit status as directed in the PSI document. Failure to do so will cause your proposal to be declared technically ineligible.

IV.3d. Please take into consideration the following information when preparing your proposal narrative:

IV.3d.1 Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20522-0582.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation

Proposals must include a plan to monitor and evaluate the project's success, both as the activities unfold and at the end of the program. The Bureau recommends that your proposal include a draft survey questionnaire or other survey technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depends heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals delineated in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please Note: Consideration should be given to the appropriate timing of data collection for each level of outcome. For example, satisfaction is usually captured as a short-term outcome, whereas behavior and institutional changes are normally considered longer-term outcomes.

Overall, the quality of your monitoring and evaluation plan will be judged on how well it: (1) Specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.3e. Please follow the guidelines in this section and consult the PSI when preparing the budget submission:

IV.3e.1. Applicants must submit SF-424A—“Budget Information—Non-Construction Programs” along with a comprehensive budget for the entire program. Budget requests may not exceed $1,500,000. There must be a summary budget as well as breakdowns reflecting both administrative and program budgets. Applicants may provide separate sub-budgets for each program component, phase, location, or activity to provide clarification.

IV.3e.2. Allowable costs for the program are outlined in the POGI.

IV.3F. Application Deadline and Methods of Submission

Application Deadline Date: June 3, 2010.

Reference Number: ECA/PE/C/EUR-SCA-10-60.

Methods of Submission: Applications may be submitted in one of two ways:

(1) In hard-copy, via a nationally recognized overnight delivery service (i.e., Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important Note: When preparing your submission please make sure to include one extra copy of the completed SF-424 form and place it in an envelope addressed to “ECA/EX/PM”.

The original and eight (8) copies of the application should be sent to: Program Management Division, ECA-IIP/EX/PM, Ref.: ECA/PE/C/EUR-SCA-10-60, SA-5, Floor 4, Department of State, 2200 C Street, NW., Washington, DC 20522-0504.

Applicants submitting hard-copy applications must also submit the “Executive Summary” and “Proposal Narrative” sections of the proposal in text (.txt) or Microsoft Word format on CD-ROM. As appropriate, the Bureau will provide these files electronically to Public Affairs Sections at U.S. embassies for their review.

IV.3f.2 Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your Internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. Eastern Time.

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation.

Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and then be forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible proposals will be competitively reviewed according to the criteria stated below. These criteria are not rank ordered and all carry equal weight in the proposal evaluation:

1. Quality of the Program Idea: Proposals should exhibit originality, substance, precision, and relevance to the Bureau's mission.

2. Program Planning and Ability to Achieve Objectives: Program objectives should be stated clearly and should reflect the applicant's expertise in the subject area and region. Objectives should respond to the topics in this announcement and should relate to the current conditions in the target country/countries. A detailed agenda and relevant work plan should explain how objectives will be achieved and should include a timetable for completion of major tasks. The substance of workshops, Fellowships, seminars and/or consulting should be described in detail. Sample schedules should be outlined. Responsibilities of proposed in-country partners should be clearly described. A discussion of how the applicant intends to address language issues should be included, if needed.

3. Institutional Capacity and Track Record: Proposals should include (1) the institution's mission and date of establishment; (2) detailed information about proposed in-country partner(s) and the history of the partnership; (3) an outline of prior awards—U.S. government and/or private support received for the target theme/country/region; and (4) descriptions and resumes of experienced staff members who will implement the program. The proposal should reflect the institution's expertise in the subject area and knowledge of the conditions in the target country/countries. Proposals should demonstrate an institutional record of successful exchange programs, including responsible fiscal management and full compliance with all reporting requirements for past Bureau grants as determined by Bureau Grants Staff. The Bureau will consider the past performance of prior recipients and the demonstrated potential of new applicants. Proposed personnel and institutional resources should be adequate and appropriate to achieve the program's goals. The Bureau strongly encourages applicants to submit letters of support from proposed in-country partners.

4. Cost Effectiveness and Cost Sharing: Overhead and administrative costs in the proposal budget, including salaries, honoraria and subcontracts for services, should be kept to a minimum. Proposals in which the administrative costs do not exceed 25% of the total requested ECA grant funds will be more competitive. Applicants are strongly encouraged to cost share a portion of overhead and administrative expenses. Cost-sharing, including contributions from the applicant, proposed in-country partner(s), and other sources should be included in the budget request. Proposal budgets that do not reflect cost sharing will be deemed not competitive on this criterion.

5. Support of Diversity: Proposals should demonstrate substantive support of the Bureau's policy on diversity. Achievable and relevant features should be cited in both program administration (selection of participants, program venue and program evaluation) and program content (orientation and wrap-up sessions, program meetings, resource materials and follow-up activities). Applicants should refer to the Bureau's Diversity, Freedom and Democracy Guidelines in the Proposal Submission Instructions (PSI).

6. Multiplier Effect/Follow-on Activities: Proposed programs should strengthen long-term mutual understanding, including maximum sharing of information and establishment of long-term institutional and individual linkages.

7. Project Evaluation: Proposals should include a detailed plan to evaluate the program, both as activities unfold and at the end of the program. Program objectives should target clearly defined results in quantitative terms. Competitive evaluation plans will describe how applicant organizations would measure these results, and proposals should include draft data collection instruments (surveys, questionnaires, etc.) in Tab E.

8. Stewardship: Applicants should address how they will utilize innovative tools, low-carbon technologies, and socially responsible approaches to program implementation, including Web-based and other technologies, to reduce the program's carbon footprint and be a faithful steward of Federal resources.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application.

Unsuccessful applicants will receive notification of the results of the application review from the ECA program office coordinating this competition.

VI. 1b.

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Linnéa E. Allison at (202) 632-6060, or allisonle@state.gov, for additional information.

VI.2 Administrative and National Policy Requirements

Terms and Conditions for the Administration of ECA agreements include the following:

Office of Management and Budget Circular A-122, “Cost Principles for Nonprofit Organizations”

Office of Management and Budget Circular A-21, “Cost Principles for Educational Institutions”

OMB Circular A-87, “Cost Principles for State, Local and Indian Governments”

OMB Circular No. A-110 (Revised), Uniform Administrative Requirements for Grants and Agreements with Institutions of Higher Education, Hospitals, and other Nonprofit Organizations

OMB Circular No. A-102, Uniform Administrative Requirements for Grants-in-Aid to State and Local Governments

OMB Circular No. A-133, Audits of States, Local Government, and Non-profit Organizations

Please reference the following Web sites for additional information:

http://www.whitehouse.gov/omb/grants.

http://fa.statebuy.state.gov.

VI.3. Reporting Requirements

You must provide ECA with an electronic copy of the following reports at reportseca@state.gov:

Mandatory

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Quarterly program and financial reports highlighting all major activities undertaken during the grant period including program analysis and lessons learned.

Award recipients will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Award recipients will be required to maintain specific data on program participants and activities in an electronically accessible database format that can be shared with the Bureau as required. At a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, please contact: Linnéa E. Allison, U.S. Department of State, Office of Citizen Exchanges, 2200 C Street (SA-5, 3rd Floor), NW., Washington, DC 20522-0503, (202) 632-6060 (tel.) (202) 632-6492 (fax), or allisonle@state.gov.

All correspondence with the Bureau concerning this RFGP should reference the above title and number (ECA/PE/C/EUR-SCA-10-60).

Please read the complete announcement before sending inquiries or submitting proposals. Once the RFGP deadline has passed, Bureau staff may not discuss this competition with applicants until the proposal review process has been completed.

VIII. Other Information

Notice

The terms and conditions published in this RFGP are binding and may not be modified by any Bureau representative.

Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 15, 2010.
Maura M. Pally,
Acting Assistant Secretary for Educational and Cultural Affairs, Department of State.

[FR Doc. 2010-9360 Filed 4-21-10; 8:45 am]

BILLING CODE 4710-05-P